OFFICE OF THE UNITED STATES TRADE REPRESENTATIVE

Modification of the Allocation of the WTO Tariff-Rate Quota Volumes for Beef

AGENCY: Office of the United States Trade Representative.

ACTION: Notice.

SUMMARY: Pursuant to the authority under the Uruguay Round Agreements Act (URAA), as delegated by the President, the Office of the United States Trade Representative is providing notice of the determination to modify the allocations of in-quota quantity under the annual beef tariff-rate quota (TRQ) to: (1) set the “other countries or areas” TRQ allocation at 52,005 metric tons (mt) effective January 1, 2026; and (2) establish an annual United Kingdom (UK) country-specific quota (CSQ) of 13,000 mt effective January 1, 2026.

DATES: This notice is applicable on January 1, 2026.

FOR FURTHER INFORMATION CONTACT: Sarah Elizabeth Fasano, Office of Agricultural Affairs, (202) 395-9491 or Sarah.E.Fasano@ustr.eop.gov.

SUPPLEMENTARY INFORMATION: Pursuant to Additional U.S. Note 3 to Chapter 2 of the Harmonized Tariff Schedule of the United States (HTSUS), the United States maintains TRQs for imports of beef. Section 404(d)(3) of the URAA (19 U.S.C. 3601(d)(3)) authorizes the President to allocate the in-quota quantity of a TRQ for any agricultural product among supplying countries or customs areas and modify any allocation as determined appropriate by him. The President delegated this authority to the U.S. Trade Representative under Presidential Proclamation 6763 of December 23, 1994 (60 FR 1007).

The U.S. Trade Representative has determined to modify the existing allocations under the U.S. beef TRQ as a result of trade negotiations with the UK. On May 8, 2025, the United States and the UK announced the General Terms for the U.S.-UK Economic Prosperity Deal (General Terms). In the General Terms, the UK agreed to establish a CSQ of 13,000 mt for U.S. beef. In return, the United States agreed to reallocate 13,000 mt from the existing volume of the “other countries and areas” TRQ allocation to a CSQ for the UK. As required in the General Terms, on June 30, 2025, the UK amended its customs laws to establish the U.S. beef CSQ.

The attached Annex provides the modifications to the HTSUS necessary to (1) set the “other countries or areas” TRQ allocation at 52,005 mt effective January 1, 2026; and (2) establish an annual UK CSQ of 13,000 mt effective January 1, 2026.

Joan Hurst,
Deputy Assistant U.S. Trade Representative for Agricultural Affairs and Commodity Policy, Office of the United States Trade Representative.

Annex

Modifications to Additional U.S. Note 3 to Chapter 2 of the Harmonized Tariff Schedule

Effective with respect to goods entered for consumption, or withdrawn from warehouse for consumption, on or after 12:01 a.m. eastern time on January 1, 2026, additional U.S. note 3 to chapter 2 of the Harmonized Tariff Schedule of the United States is modified:

1. By deleting the quantity “65,005” and by inserting the quantity “52,005” in lieu thereof; and

2. By inserting the following in the table of countries and quota quantities below “Uruguay 20,000”:

“United Kingdom 13,000”.

[FR Doc. 2025-24120 Filed 12-30-25; 8:45 am]

BILLING CODE 3390-F4-P